DEPARTMENT OF THE TREASURY

United States Mint

Notification of Expanded Pricing Grid for Precious Metals Products Containing Platinum and Gold—Excluding Commemorative Gold Coins

AGENCY: United States Mint, Department of the Treasury.

ACTION: Notice.

SUMMARY: The United States Mint published a document in the Federal Register on January 6, 2009, outlining the new pricing methodology for numismatic products containing platinum and gold. Since that time, the price of platinum and gold has increased considerably, and is approaching the upper bracket of the pricing grid. As a result, it is necessary to expand the pricing grid by adding additional pricing brackets.

FOR FURTHER INFORMATION CONTACT: B.B. Craig, Associate Director for Sales and Marketing, United States Mint, 801 Ninth Street NW., Washington, DC 20220; or call (202) 354-7500.

31 U.S.C., 9701(b)(2)(B).

Dated: October 13, 2011.
Richard A. Peterson,
Deputy Director, United States Mint.

Pricing Criteria
Criteria No. | Current range in use | Weekly average London fix | Wednesday London P.M. fix | New range to be used
1 | XX to YY | Same as Current Range | Same as Current Range | No Change to Range Currently in Use.
2 | XX to YY | Outside Current Range (either up or down 1 or more levels) | Outside Current Range and agrees with Weekly Average | Change—Use Range of Both.
3 | XX to YY | Outside Current Range (either up or down 1 or more levels) | Still Within Current Range | No Change to Range Currently in Use.
4 | XX to YY | Same as Current Range | Outside Current Range (either up or down) | No Change to Range Currently in Use.
5 | XX to YY | Outside Current Range (either up or down one level) | Outside Current Range, in the Same Direction as Weekly Average but in a Different Range | Change—Use Range of Weekly Average.
6 | XX to YY | Outside Current Range (either up or down 1 or more levels) | Outside Current Range, in opposite Direction as Weekly Average | No Change to Range Currently in Use.
7 | XX to YY | Outside Current Range (either up or down more than 1 level) | Outside Current Range in the Same Direction as Weekly Average but in a Different Range | Change—Use Range of Weekly Average.

Note: The United States Mint reserves the right to discontinue sale of gold numismatic products in the event that the selling price of United States Mint gold bullion products begin approaching the sale price of the gold numismatic products.

Pricing of Numismatic Products Containing Gold Coins
Average price of gold |  | American Buffalo gold proof | American Eagle gold proof | American Eagle gold uncirculated | First Spouse 24K proof | First Spouse 24K uncirculated
$500.00 to $549.99 | 1 oz | $810.00 | $785.00 | $778.00 |  |
| ½ oz |  | 406.00 |  | $429.00 | $416.00
| ¼ oz |  | 215.50 |  |  |
| ⅒ oz |  | 100.50 |  |  |
| 4 coins |  | 1,458.00 |  |  |
$550.00 to $599.99 | 1 oz | 860.00 | 835.00 | 828.00 |  |
| ½ oz |  | 431.00 |  | 454.00 | 441.00
| ¼ oz |  | 228.00 |  |  |
| ⅒ oz |  | 105.50 |  |  |
| 4 coins |  | 1,550.50 |  |  |
$600.00 to $649.99 | 1 oz | 910.00 | 885.00 | 878.00 |  |
| ½ oz |  | 456.00 |  | 479.00 | 466.00
| ¼ oz |  | 240.50 |  |  |
| ⅒ oz |  | 110.50 |  |  |
| 4 coins |  | 1,643.00 |  |  |
$650.00 to $699.99 | 1 oz | 960.00 | 935.00 | 928.00 |  |
| ½ oz |  | 481.00 |  | 504.00 | 491.00
| ¼ oz |  | 253.00 |  |  |
| ⅒ oz |  | 115.50 |  |  |
| 4 coins |  | 1,735.50 |  |  |
$700.00 to $749.99 | 1 oz | 1,010.00 | 985.00 | 978.00 |  |
| ½ oz |  | 506.00 |  | 529.00 | 516.00
| ¼ oz |  | 265.50 |  |  |
| ⅒ oz |  | 120.50 |  |  |
| 4 coins |  | 1,828.00 |  |  |
$750.00 to $799.99 | 1 oz | 1,060.00 | 1,035.00 | 1,028.00 |  |
| ½ oz |  | 531.00 |  | 554.00 | 541.00
| ¼ oz |  | 278.00 |  |  |
| ⅒ oz |  | 125.50 |  |  |
| 4 coins |  | 1,920.50 |  |  |
$800.00 to $849.99 | 1 oz | 1,110.00 | 1,085.00 | 1,078.00 |  |
| ½ oz |  | 556.00 |  | 579.00 | 566.00
| ¼ oz |  | 290.50 |  |  |
| ⅒ oz |  | 130.50 |  |  |
| 4 coins |  | 2,013.00 |  |  |
$850.00 to $899.99 | 1 oz | 1,160.00 | 1,135.00 | 1,128.00 |  |
| ½ oz |  | 581.00 |  | 604.00 | 591.00
| ¼ oz |  | 303.00 |  |  |
| ⅒ oz |  | 135.50 |  |  |
| 4 coins |  | 2,105.50 |  |  |
$900.00 to $949.99 | 1 oz | 1,210.00 | 1,185.00 | 1,178.00 |  |
| ½ oz |  | 606.00 |  | 629.00 | 616.00
| ¼ oz |  | 315.50 |  |  |
| ⅒ oz |  | 140.50 |  |  |
| 4 coins |  | 2,198.00 |  |  |
$950.00 to $999.99 | 1 oz | 1,260.00 | 1,235.00 | 1,228.00 |  |
| ½ oz |  | 631.00 |  | 654.00 | 641.00
| ¼ oz |  | 328.00 |  |  |
| ⅒ oz |  | 145.50 |  |  |
| 4 coins |  | 2,290.50 |  |  |
$1,000.00 to $1,049.99 | 1 oz | 1,310.00 | 1,285.00 | 1,278.00 |  |
| ½ oz |  | 656.00 |  | 679.00 | 666.00
| ¼ oz |  | 340.50 |  |  |
| ⅒ oz |  | 150.50 |  |  |
| 4 coins |  | 2,383.00 |  |  |
$1,050.00 to $1,099.99 | 1 oz | 1,360.00 | 1,335.00 | 1,328.00 |  |
| ½ oz |  | 681.00 |  | 704.00 | 691.00
| ¼ oz |  | 353.00 |  |  |
| ⅒ oz |  | 155.50 |  |  |
| 4 coins |  | 2,475.50 |  |  |
$1,100.00 to $1,149.99 | 1 oz | 1,410.00 | 1,385.00 | 1,378.00 |  |
| ½ oz |  | 706.00 |  | 729.00 | 716.00
| ¼ oz |  | 365.50 |  |  |
| ⅒ oz |  | 160.50 |  |  |
| 4 coins |  | 2,568.00 |  |  |
$1,150.00 to $1,199.99 | 1 oz | 1,460.00 | 1,435.00 | 1,428.00 |  |
| ½ oz |  | 731.00 |  | 754.00 | 741.00
| ¼ oz |  | 378.00 |  |  |
| ⅒ oz |  | 165.50 |  |  |
| 4 coins |  | 2,660.50 |  |  |
$1,200.00 to $1,249.99 | 1 oz | 1,510.00 | 1,485.00 | 1,478.00 |  |
| ½ oz |  | 756.00 |  | 779.00 | 766.00
| ¼ oz |  | 390.50 |  |  |
| ⅒ oz |  | 170.50 |  |  |
| 4 coins |  | 2,753.00 |  |  |
$1,250.00 to $1,299.99 | 1 oz | 1,560.00 | 1,535.00 | 1,528.00 |  |
| ½ oz |  | 781.00 |  | 804.00 | 791.00
| ¼ oz |  | 403.00 |  |  |
| ⅒ oz |  | 175.50 |  |  |
| 4 coins |  | 2,845.50 |  |  |
$1,300.00 to $1,349.99 | 1 oz | 1,610.00 | 1,585.00 | 1,578.00 |  |
| ½ oz |  | 806.00 |  | 829.00 | 816.00
| ¼ oz |  | 415.50 |  |  |
| ⅒ oz |  | 180.50 |  |  |
| 4 coins |  | 2,938.00 |  |  |
$1,350.00 to $1,399.99 | 1 oz | 1,660.00 | 1,635.00 | 1,628.00 |  |
| ½ oz |  | 831.00 |  | 854.00 | 841.00
| ¼ oz |  | 428.00 |  |  |
| ⅒ oz |  | 185.50 |  |  |
| 4 coins |  | 3,030.50 |  |  |
$1,400.00 to $1,449.99 | 1 oz | 1,710.00 | 1,685.00 | 1,678.00 |  |
| ½ oz |  | 856.00 |  | 879.00 | 866.00
| ¼ oz |  | 440.50 |  |  |
| ⅒ oz |  | 190.50 |  |  |
| 4 coins |  | 3,123.00 |  |  |
$1,450.00 to $1,499.99 | 1 oz | 1,760.00 | 1,735.00 | 1,728.00 |  |
| ½ oz |  | 881.00 |  | 904.00 | 891.00
| ¼ oz |  | 453.00 |  |  |
| ⅒ oz |  | 195.50 |  |  |
| 4 coins |  | 3,215.50 |  |  |
$1,500.00 to $1,549.99 | 1 oz | 1,810.00 | 1,785.00 | 1,778.00 |  |
| ½ oz |  | 906.00 |  | 929.00 | 916.00
| ¼ oz |  | 465.50 |  |  |
| ⅒ oz |  | 200.50 |  |  |
| 4 coins |  | 3,308.00 |  |  |
$1,550.00 to $1,599.99 | 1 oz | 1,860.00 | 1,835.00 | 1,828.00 |  |
| ½ oz |  | 931.00 |  | 954.00 | 941.00
| ¼ oz |  | 478.00 |  |  |
| ⅒ oz |  | 205.50 |  |  |
| 4 coins |  | 3,400.50 |  |  |
$1,600.00 to $1,649.99 | 1 oz | 1,910.00 | 1,885.00 | 1,878.00 |  |
| ½ oz |  | 956.00 |  | 979.00 | 966.00
| ¼ oz |  | 490.50 |  |  |
| ⅒ oz |  | 210.50 |  |  |
| 4 coins |  | 3,493.00 |  |  |
$1,650.00 to $1,699.99 | 1 oz | 1,960.00 | 1,935.00 | 1,928.00 |  |
| ½ oz |  | 981.00 |  | 1,004.00 | 991.00
| ¼ oz |  | 503.00 |  |  |
| ⅒ oz |  | 215.50 |  |  |
| 4 coins |  | 3,585.50 |  |  |
$1,700.00 to $1,749.99 | 1 oz | 2,010.00 | 1,985.00 | 1,978.00 |  |
| ½ oz |  | 1,006.00 |  | 1,029.00 | 1,016.00
| ¼ oz |  | 515.50 |  |  |
| ⅒ oz |  | 220.50 |  |  |
| 4 coins |  | 3,678.00 |  |  |
$1,750.00 to $1,799.99 | 1 oz | 2,060.00 | 2,035.00 | 2,028.00 |  |
| ½ oz |  | 1,031.00 |  | 1,054.00 | 1,041.00
| ¼ oz |  | 528.00 |  |  |
| ⅒ oz |  | 225.50 |  |  |
| 4 coins |  | 3,770.50 |  |  |
$1,800.00 to $1,849.99 | 1 oz | 2,110.00 | 2,085.00 | 2,078.00 |  |
| ½ oz |  | 1,056.00 |  | 1,079.00 | 1,066.00
| ¼ oz |  | 540.50 |  |  |
| ⅒ oz |  | 230.50 |  |  |
| 4 coins |  | 3,863.00 |  |  |
$1,850.00 to $1,899.99 | 1 oz | 2,160.00 | 2,135.00 | 2,128.00 |  |
| ½ oz |  | 1,081.00 |  | 1,104.00 | 1,091.00
| ¼ oz |  | 553.00 |  |  |
| ⅒ oz |  | 235.50 |  |  |
| 4 coins |  | 3,955.50 |  |  |
$1,900.00 to $1,949.99 | 1 oz | 2,210.00 | 2,185.00 | 2,178.00 |  |
| ½ oz |  | 1,106.00 |  | 1,129.00 | 1,116.00
| ¼ oz |  | 565.50 |  |  |
| ⅒ oz |  | 240.50 |  |  |
| 4 coins |  | 4,048.00 |  |  |
$1,950.00 to $1,999.99 | 1 oz | 2,260.00 | 2,235.00 | 2,228.00 |  |
| ½ oz |  | 1,131.00 |  | 1,154.00 | 1,141.00
| ¼ oz |  | 578.00 |  |  |
| ⅒ oz |  | 245.50 |  |  |
| 4 coins |  | 4,140.50 |  |  |
$2,000.00 to $2,049.99 | 1 oz | 2,310.00 | 2,285.00 | 2,278.00 |  |
| ½ oz |  | 1,156.00 |  | 1,179.00 | 1,166.00
| ¼ oz |  | 590.50 |  |  |
| ⅒ oz |  | 250.50 |  |  |
| 4 coins |  | 4,233.00 |  |  |
$2,050.00 to $2,099.99 | 1 oz | 2,360.00 | 2,335.00 | 2,328.00 |  |
| ½ oz |  | 1,181.00 |  | 1,204.00 | 1,191.00
| ¼ oz |  | 603.00 |  |  |
| ⅒ oz |  | 255.50 |  |  |
| 4 coins |  | 4,325.50 |  |  |
$2,100.00 to $2,149.99 | 1 oz | 2,410.00 | 2,385.00 | 2,378.00 |  |
| ½ oz |  | 1,206.00 |  | 1,229.00 | 1,216.00
| ¼ oz |  | 615.50 |  |  |
| ⅒ oz |  | 260.50 |  |  |
| 4 coins |  | 4,418.00 |  |  |
$2,150.00 to $2,199.99 | 1 oz | 2,460.00 | 2,435.00 | 2,428.00 |  |
| ½ oz |  | 1,231.00 |  | 1,254.00 | 1,241.00
| ¼ oz |  | 628.00 |  |  |
| ⅒ oz |  | 265.50 |  |  |
| 4 coins |  | 4,510.50 |  |  |
$2,200.00 to $2,249.99 | 1 oz | 2,510.00 | 2,485.00 | 2,478.00 |  |
| ½ oz |  | 1,256.00 |  | 1,279.00 | 1,266.00
| ¼ oz |  | 640.50 |  |  |
| ⅒ oz |  | 270.50 |  |  |
| 4 coins |  | 4,603.00 |  |  |
$2,250.00 to $2,299.99 | 1 oz | 2,560.00 | 2,535.00 | 2,528.00 |  |
| ½ oz |  | 1,281.00 |  | 1,304.00 | 1,291.00
| ¼ oz |  | 653.00 |  |  |
| ⅒ oz |  | 275.50 |  |  |
| 4 coins |  | 4,695.50 |  |  |
$2,300.00 to $2,349.99 | 1 oz | 2,610.00 | 2,585.00 | 2,578.00 |  |
| ½ oz |  | 1,306.00 |  | 1,329.00 | 1,316.00
| ¼ oz |  | 665.50 |  |  |
| ⅒ oz |  | 280.50 |  |  |
| 4 coins |  | 4,788.00 |  |  |
$2,350.00 to $2,399.99 | 1 oz | 2,660.00 | 2,635.00 | 2,628.00 |  |
| ½ oz |  | 1,331.00 |  | 1,354.00 | 1,341.00
| ¼ oz |  | 678.00 |  |  |
| ⅒ oz |  | 285.50 |  |  |
| 4 coins |  | 4,880.50 |  |  |
$2,400.00 to $2,449.99 | 1 oz | 2,710.00 | 2,685.00 | 2,678.00 |  |
| ½ oz |  | 1,356.00 |  | 1,379.00 | 1,366.00
| ¼ oz |  | 690.50 |  |  |
| ⅒ oz |  | 290.50 |  |  |
| 4 coins |  | 4,973.00 |  |  |
$2,450.00 to $2,499.99 | 1 oz | 2,760.00 | 2,735.00 | 2,728.00 |  |
| ½ oz |  | 1,381.00 |  | 1,404.00 | 1,391.00
| ¼ oz |  | 703.00 |  |  |
| ⅒ oz |  | 295.50 |  |  |
| 4 coins |  | 5,065.50 |  |  |
$2,500.00 to $2,549.99 | 1 oz | 2,810.00 | 2,785.00 | 2,778.00 |  |
| ½ oz |  | 1,406.00 |  | 1,429.00 | 1,416.00
| ¼ oz |  | 715.50 |  |  |
| ⅒ oz |  | 300.50 |  |  |
| 4 coins |  | 5,158.00 |  |  |
$2,550.00 to $2,599.99 | 1 oz | 2,860.00 | 2,835.00 | 2,828.00 |  |
| ½ oz |  | 1,431.00 |  | 1,454.00 | 1,441.00
| ¼ oz |  | 728.00 |  |  |
| ⅒ oz |  | 305.50 |  |  |
| 4 coins |  | 5,250.50 |  |  |
$2,600.00 to $2,649.99 | 1 oz | 2,910.00 | 2,885.00 | 2,878.00 |  |
| ½ oz |  | 1,456.00 |  | 1,479.00 | 1,466.00
| ¼ oz |  | 740.50 |  |  |
| ⅒ oz |  | 310.50 |  |  |
| 4 coins |  | 5,343.00 |  |  |
$2,650.00 to $2,699.99 | 1 oz | 2,960.00 | 2,935.00 | 2,928.00 |  |
| ½ oz |  | 1,481.00 |  | 1,504.00 | 1,491.00
| ¼ oz |  | 753.00 |  |  |
| ⅒ oz |  | 315.50 |  |  |
| 4 coins |  | 5,435.50 |  |  |
$2,700.00 to $2,749.99 | 1 oz | 3,010.00 | 2,985.00 | 2,978.00 |  |
| ½ oz |  | 1,506.00 |  | 1,529.00 | 1,516.00
| ¼ oz |  | 765.50 |  |  |
| ⅒ oz |  | 320.50 |  |  |
| 4 coins |  | 5,528.00 |  |  |
$2,750.00 to $2,799.99 | 1 oz | 3,060.00 | 3,035.00 | 3,028.00 |  |
| ½ oz |  | 1,531.00 |  | 1,554.00 | 1,541.00
| ¼ oz |  | 778.00 |  |  |
| ⅒ oz |  | 325.50 |  |  |
| 4 coins |  | 5,620.50 |  |  |
$2,800.00 to $2,849.99 | 1 oz | 3,110.00 | 3,085.00 | 3,078.00 |  |
| ½ oz |  | 1,556.00 |  | 1,579.00 | 1,566.00
| ¼ oz |  | 790.50 |  |  |
| ⅒ oz |  | 330.50 |  |  |
| 4 coins |  | 5,713.50 |  |  |
$2,850.00 to $2,899.99 | 1 oz | 3,160.00 | 3,135.00 | 3,128.00 |  |
| ½ oz |  | 1,581.00 |  | 1,604.00 | 1,591.00
| ¼ oz |  | 803.00 |  |  |
| ⅒ oz |  | 335.50 |  |  |
| 4 coins |  | 5,805.50 |  |  |
$2,900.00 to $2,949.99 | 1 oz | 3,210.00 | 3,185.00 | 3,178.00 |  |
| ½ oz |  | 1,606.00 |  | 1,629.00 | 1,616.00
| ¼ oz |  | 815.50 |  |  |
| ⅒ oz |  | 340.50 |  |  |
| 4 coins |  | 5,898.00 |  |  |
$2,950.00 to $2,999.99 | 1 oz | 3,260.00 | 3,235.00 | 3,228.00 |  |
| ½ oz |  | 1,631.00 |  | 1,654.00 | 1,641.00
| ¼ oz |  | 828.00 |  |  |
| ⅒ oz |  | 345.50 |  |  |
| 4 coins |  | 5,990.50 |  |  |

Pricing of Numismatic Products Containing Platinum Coins
Average price of platinum |  | American Eagle platinum proof
$550.00 to $649.99 | 1 oz | $892.00
| ½ oz |
| ¼ oz |
| ⅒ oz |
| 4 coins |
$650.00 to $749.99 | 1 oz | 992.00
| ½ oz |
| ¼ oz |
| ⅒ oz |
| 4 coins |
$750.00 to $849.99 | 1 oz | 1,092.00
| ½ oz |
| ¼ oz |
| ⅒ oz |
| 4 coins |
$850.00 to $949.99 | 1 oz | 1,192.00
| ½ oz |
| ¼ oz |
| ⅒ oz |
| 4 coins |
$950.00 to $1,049.99 | 1 oz | 1,292.00
| ½ oz |
| ¼ oz |
| ⅒ oz |
| 4 coins |
$1,050.00 to $1,149.99 | 1 oz | 1,392.00
| ½ oz |
| ¼ oz |
| ⅒ oz |
| 4 coins |
$1,150.00 to $1,249.99 | 1 oz | 1,492.00
| ½ oz |
| ¼ oz |
| ⅒ oz |
| 4 coins |
$1,250.00 to $1,349.99 | 1 oz | 1,592.00
| ½ oz |
| ¼ oz |
| ⅒ oz |
| 4 coins |
$1,350.00 to $1,449.99 | 1 oz | 1,692.00
| ½ oz |
| ¼ oz |
| ⅒ oz |
| 4 coins |
$1,450.00 to $1,549.99 | 1 oz | 1,792.00
| ½ oz |
| ¼ oz |
| ⅒ oz |
| 4 coins |
$1,550.00 to $1,649.99 | 1 oz | 1,892.00
| ½ oz |
| ¼ oz |
| ⅒ oz |
| 4 coins |
$1,650.00 to $1,749.99 | 1 oz | 1,992.00
| ½ oz |
| ¼ oz |
| ⅒ oz |
| 4 coins |
$1,750.00 to $1,849.99 | 1 oz | 2,092.00
| ½ oz |
| ¼ oz |
| ⅒ oz |
| 4 coins |
$1,850.00 to $1,949.99 | 1 oz | 2,192.00
| ½ oz |
| ¼ oz |
| ⅒ oz |
| 4 coins |
$1,950.00 to $2,049.99 | 1 oz | 2,292.00
| ½ oz |
| ¼ oz |
| ⅒ oz |
| 4 coins |
$2,050.00 to $2,149.99 | 1 oz | 2,392.00
| ½ oz |
| ¼ oz |
| ⅒ oz |
| 4 coins |
$2,150.00 to $2,249.99 | 1 oz | 2,492.00
| ½ oz |
| ¼ oz |
| ⅒ oz |
| 4 coins |
$2,250.00 to $2,349.99 | 1 oz | 2,592.00
| ½ oz |
| ¼ oz |
| ⅒ oz |
| 4 coins |
$2,350.00 to $2,449.99 | 1 oz | 2,692.00
| ½ oz |
| ¼ oz |
| ⅒ oz |
| 4 coins |
$2,450.00 to $2,549.99 | 1 oz | 2,792.00
| ½ oz |
| ¼ oz |
| ⅒ oz |
| 4 coins |
$2,550.00 to $2,649.99 | 1 oz | 2,892.00
| ½ oz |
| ¼ oz |
| ⅒ oz |
| 4 coins |
$2,650.00 to $2,749.99 | 1 oz | 2,992.00
| ½ oz |
| ¼ oz |
| ⅒ oz |
| 4 coins |
$2,750.00 to $2,849.99 | 1 oz | 3,092.00
| ½ oz |
| ¼ oz |
| ⅒ oz |
| 4 coins |
$2,850.00 to $2,949.99 | 1 oz | 3,192.00
| ½ oz |
| ¼ oz |
| ⅒ oz |
| 4 coins |
$2,950.00 to $3,049.99 | 1 oz | 3,292.00
| ½ oz |
| ¼ oz |
| ⅒ oz |
| 4 coins |
$3,050.00 to $3,149.99 | 1 oz | 3,392.00
| ½ oz |
| ¼ oz |
| ⅒ oz |
| 4 coins |
$3,150.00 to $3,249.99 | 1 oz | 3,492.00
| ½ oz |
| ¼ oz |
| ⅒ oz |
| 4 coins |
$3,250.00 to $3,349.99 | 1 oz | 3,592.00
| ½ oz |
| ¼ oz |
| ⅒ oz |
| 4 coins
$3,350.00 to $3,449.99 | 1 oz | 3,692.00
| ½ oz |
| ¼ oz |
| ⅒ oz |
| 4 coins |

[FR Doc. 2011-28354 Filed 11-1-11; 8:45 am]

BILLING CODE P